DEPARTMENT OF TRANSPORTATION

Federal Transit Administration

Notice of Availability and Public Hearing of the Draft Supplemental Environmental Impact Statement on the Buffalo Inner Harbor Project, New York

AGENCY: Federal Transit Administration, DOT.

ACTION: Notice of availability and public hearing of the draft supplemental environmental impact statement.

SUMMARY: The Federal Transit Administration (FTA) is issuing this notice to advise the public and interested agencies that a Draft Supplemental Environmental Impact Statement (Draft SEIS) will be available on the Buffalo Inner Harbor Project. This Draft SEIS is in response to a court order and is limited in scope to the issue of historic preservation. The Draft SEIS will address events and information that became available subsequent to the Final EIS (FEIS), which was issued February 12, 1999.

The Draft SEIS was prepared pursuant to an order filed in a civil action filed by Preservation Coalition on October 6, 1999, in the United States District Court for the Western District of New York under civil action number 99-CV-745S against FTA, NFTA, the New York State Thruway Authority, Empire State Development Corporation (ESDC), and the New York State Office of Parks, Recreation, and Historic Preservation. The Preservation Coalition challenged the Buffalo Inner Harbor Project on environmental and historic preservation grounds. On March 31, 2000, District Court Judge William M. Skretny ordered that a SEIS be prepared to consider the information learned during archaeological investigations conducted after the FEIS.

The court established a compressed timetable for the public comment period on the Draft SEIS. In accordance with the order, the Draft SEIS will be available for public comment between May 10, 2000, and May 31, 2000. Written comments must be received by 5:00 PM on May 31, 2000. A public hearing on the project will be held on May 24, 2000, from 7 to 9:00 p.m.

DATES: Comment due date/time: May 31, 2000, 5:00 PM. Public hearing date/time: May 24, 2000, 7-9 p.m.

ADDRESSES: Written comments are to be sent to Ruta Dzenis, AICP, Project Director, Empire State Development Corporation, 420 Main Street, Suite 717 Liberty Building, Buffalo, NY 14202. The address of the public hearing is Erie County Community College, Downtown Campus, Main Auditorium, Buffalo, NY 14203. The Auditorium entrance is along the Clinton Street side of the building and is accessible to the disabled. If there is a need for a translator for the hearing impaired or other special accommodations please notify Ms. Mary Coleman, Empire State Development Corporation, at (716) 856-8111 by Tuesday, May 16, 2000. Copies of the Draft SEIS are available by contacting Ms. Coleman. Copies of the draft SEIS are also available for review at the Buffalo and Erie County Public Library, Central Branch, Lafayette Square, Buffalo, NY 14202; the Niagara Falls Public Library, 1425 Main Street, Niagara Falls, NY 14305; and the University of Buffalo School of Architecture and Planning Library, Hayes Hall, South Campus, Buffalo NY 14216.

FOR FURTHER INFORMATION CONTACT: Anthony G. Carr, FTA Region II, One Bowling Green, Room 429; New York, NY 10004. Telephone (212) 668-2170.

Following the public comment period, a Final SEIS that responds to the comments will be prepared and made available to the public.

Issued on: May 3, 2000.
Letitia Thompson,
Regional Administrator, Federal Transit Administration, Region II.

[FR Doc. 00-11484 Filed 5-8-00; 8:45 am]

BILLING CODE 4910-57-P